DEPARTMENT OF COMMERCE

National Oceanic and Atmospheric Administration

RIN 0648-XO45

Marine Mammals; File No. 14241

AGENCY: National Marine Fisheries Service (NMFS), National Oceanic and Atmospheric Administration (NOAA), Commerce.

ACTION: Notice; receipt of application.

SUMMARY: Notice is hereby given that Dr. Peter Tyack, Woods Hole Oceanographic Institute, Woods Hole, MA, has applied in due form for a permit to conduct research on marine mammals.

DATES: Written, telefaxed, or e-mail comments must be received on or before May 8, 2009.

ADDRESSES: The application and related documents are available for review by selecting “Records Open for Public Comment” from the Features box on the Applications and Permits for Protected Species (APPS) home page, https://apps.nmfs.noaa.gov, and then selecting File No. 14241 from the list of available applications.

These documents are also available upon written request or by appointment in the following office(s):

Permits, Conservation and Education Division, Office of Protected Resources, NMFS, 1315 East-West Highway, Room 13705, Silver Spring, MD 20910; phone (301)713-2289; fax (301)427-2521;

Northeast Region, NMFS, 55 Great Republic Drive, Gloucester, MA 01930; phone (978)281-9300; fax (978) 281-9333; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include “File No. 14241” in the subject line of the e-mail comment as a document identifier.

FOR FURTHER INFORMATION CONTACT: Tammy Adams or Carrie Hubard, (301)713-2289.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to conduct research on cetacean behavior, sound production, and responses to sound. The research will contribute to conservation and management of the subject species by (1) collecting data on vocal behavior critical for estimating how well passive acoustic monitoring can detect and estimate abundance for different species, (2) determining what characteristics of exposure to specific sounds evoke what responses in marine mammals, and (3) studying behavioral responses including those that might relate to potential risks of stranding or entanglement in fishing gear. The research methods include tagging marine mammals with an advanced digital sound recording tag that records the acoustic stimuli an animal hears and measures vocalization, behavior, and physiological parameters. Another method involves conducting sound playbacks in a carefully controlled manner at received levels up to 180 dB re 1 microPa and measuring animals' responses. The principal study species are beaked whales, especially Cuvier's beaked whale (Ziphius cavirostris), and large delphinids such as long-finned pilot whales (Globicephala melas). The location for the field work involving playback is near the Mediterranean Sea; the location for tagging to study risks of entanglement is mid-Atlantic states, especially near Cape Hatteras; and the location for studying pre-stranding behavior is Cape Cod Bay. Please refer to the tables in the application for a complete list of species and associated research activities by location.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 2, 2009.
P. Michael Payne,
Chief, Permits, Conservation and Education Division, Office of Protected Resources, National Marine Fisheries Service.

[FR Doc. E9-8004 Filed 4-7-09; 8:45 am]

BILLING CODE 3510-22-S